DEPARTMENT OF TRANSPORTATION

Coast Guard

33 CFR Parts 100, 117 and 165

[USCG-2002-13968]

Safety Zones, Security Zones, Drawbridge Operation Regulations and Special Local Regulations

AGENCY: Coast Guard, DOT.

ACTION: Notice of temporary rules issued.

SUMMARY: This document provides required notice of substantive rules issued by the Coast Guard and temporarily effective between July 1, 2002 and September 30, 2002, which were not published in the Federal Register. This quarterly notice lists temporary local regulations, drawbridge operation regulations, security zones, and safety zones of limited duration and for which timely publication in the Federal Register was not possible.

DATES: This notice lists temporary Coast Guard rules that became effective and were terminated between July 1, 2002 and September 30, 2002.

ADDRESSES: The Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice, contact LT Sean Fahey, Office of Regulations and Administrative Law, at telephone number (202) 267-2830. For questions on viewing, or on submitting material to the docket, contact Dorothy Beard, Chief, Dockets, Department of Transportation at (202) 366-5149.

SUPPLEMENTARY INFORMATION: Coast Guard District Commanders and Captains of the Port (COTP) must be immediately responsive to the safety and security needs of the waters within their jurisdiction; therefore, District Commanders and COTPs have been delegated the authority to issue certain local regulations. Safety zones may be established for safety or environmental purposes. A safety zone may be stationary and described by fixed limits or it may be described as a zone around a vessel in motion. Security zones limit access to prevent injury or damage to vessels, ports, or waterfront facilities. Drawbridge operation regulations authorize changes to drawbridge schedules to accommodate bridge repairs, seasonal vessel traffic, and local public events. Special local regulations are issued to enhance the safety to participants and spectators at regattas and other marine events.

Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these special local regulations, drawbridge operation regulations, security zones, or safety zones by Coast Guard officials on-scene prior to any enforcement action. However, the Coast Guard, by law, must publish in the Federal Register notice of all substantive rules adopted. To meet this obligation without imposing undue expense on the public, the Coast Guard periodically publishes a list of these temporary special local regulations, drawbridge operation regulations, security zones, and safety zones.

Permanent rules are not included in this list because they are published in their entirety in the Federal Register. Temporary rules may also be published in their entirety if sufficient time is available to do so before they are placed in effect or terminated. The safety zones, special local regulations, drawbridge operation regulations, and security zones listed in this notice have been exempted from review under Executive Order 12866, Regulatory Planning and Review, because of their emergency nature, or limited scope and temporary effectiveness.

The following rules were placed in effect temporarily during the period from July 1, 2002, and through September 30, 2002, unless otherwise indicated. This notice also includes rules that were not received in time to be included on the quarterly notice for the first and second quarters of 2002.

Dated: November 27, 2002.
S.G. Venckus,
Chief, Office of Regulations and Administrative Law.

COTP Quarterly Report—3rd Quarter 2002
COTP Docket | Location | Type | Effective date
Charleston 02-089 | Cooper River, Port of Charleston, SC | Safety Zone | 07/16/2002
Guam 02-019 | F-1 Wharf, APRA, Harbor, Guam | Security Zone | 07/02/2002
Huntington 02-008 | Ohio River, 171.5 To 172.5, Marietta, OH | Safety Zone | 07/06/2002
Jacksonville 02-078 | St. John's River, Sanford, FL | Safety Zone | 07/04/2002
Jacksonville 02-079 | Intracoastal Waterway, Melbourne, FL | Safety Zone | 07/04/2002
Jacksonville 02-080 | Atlantic Ocean, Daytona Beach, FL | Safety Zone | 07/04/2002
Jacksonville 02-081 | Indian River, Titusville, FL | Safety Zone | 07/04/2002
Jacksonville 02-082 | St. Johns River, Orange Park, FL | Safety Zone | 07/04/2002
Jacksonville 02-083 | Indian River, Cocoa, FL | Safety Zone | 07/04/2002
Jacksonville 02-084 | Matanzas River, St. Augustine, FL | Safety Zone | 07/04/2002
Jacksonville 02-085 | St. Johns River, Jacksonville, FL | Safety Zone | 07/04/2002
Jacksonville 02-086 | Intracoastal Waterway, Ormond Beach, FL | Safety Zone | 07/04/2002
Jacksonville 02-093 | Atlantic Ocean, Cocoa Beach, FL | Safety Zone | 07/22/2002
Jacksonville 02-100 | St. Johns River, Atlantic Ocean, Mayport, FL | Security Zone | 08/16/2002
Jacksonville 02-106 | Jacksonville, FL | Safety Zone | 08/29/2002
Jacksonville 02-106 | St. Johns County, FL | Safety Zone | 09/05/2002
LA/Long Beach 02-013 | Huntington Beach, CA | Safety Zone | 08/18/2002
Louisville 02-006 | Ohio River, M. 602 To 604 | Safety Zone | 09/21/2002
Memphis 02-009 | LWR Mississippi River, M. 590.5 To 592 | Safety Zone | 08/16/2002
Miami 02-075 | Miami River, Miami, FL | Safety Zone | 07/26/2002
Miami 02-092 | Port Of Miami | Safety Zone | 08/01/2002
Miami 02-103 | Biscayne Bay, Dinner Key Channel, Fl | Safety Zone | 08/26/2002
Miami 02-107 | Biscayne Bay-Port of Miami, Miami FL | Security Zone | 08/26/2002
Miami 02-113 | Atlantic Ocean | Safety Zone | 09/13/2002
Miami 02-118 | Atlantic Ocean Bad Boys II Film Production | Safety Zone | 09/27/2002
Mobile 02-016 | Pascagoula River, Pascagoula, Mississippi | Safety Zone | 09/18/2002
Mobile 02-016 | Gulf Intracoastal Waterway, FL | Safety Zone | 07/03/2002
Mobile 02-017 | Mississippi Sound, Pascagoula, Mississippi | Safety Zone | 09/16/2002
Morgan City 02-005 | Atchafalaya River, Morgan City, LA | Safety Zone | 09/17/2002
New Orleans 02-011 | Red River, M. 227.5 To 229.5 | Safety Zone | 07/04/2002
New Orleans 02-012 | LWR Mississippi River, M. 174.5 To 176.5 | Safety Zone | 07/03/2002
New Orleans 02-013 | LWR Mississippi River, M. 362 To 364 | Safety Zone | 07/04/2002
New Orleans 02-014 | Yazoo Diversion Canal, Vicksburg, MS | Safety Zone | 07/04/2002
New Orleans 02-015 | Casino Magic Marina, Bay St. Louis, MS | Safety Zone | 07/03/2002
New Orleans 02-016 | LWR Mississippi River, M. 120.5 To 122.5 | Safety Zone | 07/03/2002
New Orleans 02-017 | LWR Mississippi River, M. 137 To 139 | Safety Zone | 07/03/2002
New Orleans 02-020 | SW Pass Sea Buoy To Nashville Ave Wharf | Safety Zone | 08/06/2002
New Orleans 02-021 | Main Pass, Gulf of Mexico | Safety Zone | 07/24/2002
Paducah 02-006 | Upper Mississippi River, M. 52 To 53 | Safety Zone | 07/04/2002
Paducah 02-007 | Ohio River, M. 943 To 945 | Safety Zone | 09/14/2002
Paducah 02-008 | Tennessee River, M. 612 To 625 | Safety Zone | 09/15/2002
Paducah 02-009 | Cumberland River, M. 190.5 To 192 | Security Zone | 09/17/2002
Philadelphia 02-005 | Atlantic City, New Jersey | Security Zone | 09/21/2002
Philadelphia 02-002 | Absecon Inlet, New Jersey | Safety Zone | 09/26/2002
Pittsburgh 02-014 | Ohio River, M. 90 To 91 | Safety Zone | 07/27/2002
Pittsburgh 02-015 | Monongahela River, M. 22.5 To 23.5 | Safety Zone | 07/27/2002
Pittsburgh 02-018 | Youghiougheny River, M. 0.0 To 0.5 | Safety Zone | 07/25/2002
Pittsburgh 02-020 | Monongahela River, M. 0.0 To 1.3 | Safety Zone | 08/21/2002
Pittsburgh 02-021 | Allegheny River, M. 0.0 To 0.3 | Safety Zone | 08/31/2002
Port Arthur 02-005 | Sabine Jetty Channel, Sabine, Texas | Safety Zone | 07/02/2002
Port Arthur 02-006 | Sabine River, Port Arthur, Texas | Safety Zone | 07/23/2002
San Diego 02-008 | Colorado River, Laughlin, NV | Safety Zone | 07/04/2002
San Diego 02-014 | North San Diego Bay, CA | Safety Zone | 07/04/2002
St. Louis 02-007 | Illinois River, M. 157.6 To 166.6 | Safety Zone | 07/04/2002
St. Louis 02-008 | Missouri River, M. 29 to 27.5 | Safety Zone | 07/04/2002
St. Louis 02-009 | Upper Mississippi River, M. 179.2 To 180 | Security Zone | 07/03/2002
St. Louis 02-010 | Upper Mississippi River, M. 179.2 To 180 | Safety Zone | 07/03/2002
St. Louis 02-011 | Lake City, MN | Safety Zone | 07/04/2002
St. Louis 02-012 | Cassville Fire Works, Cassville, WI | Safety Zone | 07/20/2002
St. Louis 02-013 | UPR Mississippi River, M. 496.4 To 496.6 | Safety Zone | 08/09/2002
St. Louis 02-014 | UPR Mississippi River, M. 497.5 To 497.7 | Safety Zone | 08/10/2002
St. Louis 02-015 | Kansas City Air Show Expo, Kansas City, Mo | Safety Zone | 08/16/2002
St. Louis 02-016 | UPR Mississippi River, M. 662.5 To 663.6 | Safety Zone | 07/10/2002
Western Alaska 02-008 | Pioneer Dock, Kachemak Bay, Homer, Alaska | Security Zone | 07/02/2002
Western Alaska 02-009 | Resurrection Bay, Alaska | Security Zone | 07/03/2002
Western Alaska 02-010 | Resurrection Bay, Alaska | Security Zone | 07/03/2002
Western Alaska 02-011 | Resurrection Bay, Alaska | Security Zone | 07/04/2002
Western Alaska 02-012 | Resurrection Bay, Alaska | Security Zone | 07/05/2002

District Quarterly Report—3rd Quarter 2002
District docket | Location | Type | Effective date
01-02-066 | Middletown, Connecticut River, CT | Safety Zone | 07/04/2002
01-02-079 | Orchard Beach, Long Island Sound, NY | Safety Zone | 07/02/2002
01-02-080 | Marblehead, Massachusetts | Safety Zone | 07/03/2002
01-02-081 | Triathlon Swim, Hudson River, Ulster Landing | Safety Zone | 07/14/2002
01-02-086 | New Jersey Pierhead, Channel, NJ | Safety Zone | 07/20/2002
01-02-087 | Salem, MA | Safety Zone | 07/04/2002
01-02-088 | Charles River Esplanade, Boston, MA | Safety Zone | 07/03/2002
01-02-095 | Cashman Park, Newburyport, MA | Safety Zone | 08/03/2002
01-02-097 | Dorchester Bay, Dorchester, MA | Safety Zone | 08/03/2002
01-02-098 | Prouts Neck, Scarborough, ME | Safety Zone | 08/03/2002
01-02-103 | Coast Guard Activities New York | Safety Zone | 08/30/2002
01-02-106 | Port of New York/New Jersey | Safety Zone | 09/14/2002
01-02-109 | Port of New York/New Jersey | Safety Zone | 09/05/2002
01-02-111 | Ellis and Liberty Islands, NY/New Jersey | Safety Zone | 09/11/2002
01-02-112 | Hudson River, Pier 25, Manhattan, NY | Safety Zone | 09/24/2002
01-02-120 | Port of New York/New Jersey | Safety Zone | 09/10/2002
05-02-044 | York River, Yorktown, Virginia | Safety Zone | 07/04/2002
05-02-045 | Chickahominy River, Williamsburg, Virginia | Safety Zone | 07/04/2002
05-02-046 | Piankatank River, Hills Bay, Mathews, VA | Safety Zone | 07/04/2002
05-02-047 | James River, Newport News, Virginia | Safety Zone | 07/04/2002
05-02-050 | Chesapeake Bay, Hampton, VA | Safety Zone | 08/01/2002
05-02-051 | Patuxent River, Solomons, MD | Special Local | 08/10/2002
05-02-053 | James River, Newport News, VA | Safety Zone | 07/30/2002
05-02-056 | Pamlico River, Washington, North Carolina | Special Local | 08/17/2002
05-02-063 | James River, Newport News, Virginia | Safety Zone | 09/16/2002
05-02-069 | Patapsco River, Inner Harbor, Baltimore, MD | Special Local | 09/14/2002
05-02-070 | Severn River and Spa Creek, Annapolis, MD | Safety Zone | 09/05/2002
05-02-073 | Susquehanna River, Harford County, MD | Security Zone | 09/06/2002
05-02-074 | Potomac River, Washington, DC | Safety Zone | 09/11/2002
05-02-077 | Hampton Roads, Elizabeth River, Virginia | Security Zone | 09/16/2002
05-20-066 | Delaware Bay and River | Safety Zone | 08/15/2002
08-02-020 | Mississippi River, Iowa and Illinois | Drawbridge Operation | 09/22/2002
09-02-032 | Milwaukee Harbor, Milwaukee | Safety Zone | 07/19/2002
09-02-044 | Maumee River, Toledo, Ohio | Safety Zone | 07/04/2002
09-02-048 | White Lake, Whitehall, MI | Safety Zone | 07/04/2002
09-02-049 | Lake Kalamazoo, Saugatuck, MI | Safety Zone | 07/04/2002
09-02-050 | Lake Michigan, Manistee, MI | Safety Zone | 07/04/2002
09-02-051 | Michigan City, IN | Safety Zone | 07/07/2002
09-02-052 | Lake Michigan, Hammond, IN | Safety Zone | 07/13/2002
09-02-053 | Lake Michigan, Evanston, IL | Safety Zone | 07/04/2002
09-02-055 | Lake Michigan, Pentwater, MI | Safety Zone | 07/03/2002
09-02-057 | Cleveland Harbor, Cleveland, OH | Safety Zone | 07/04/2002
09-02-061 | Thunderfest Powerboat Race, Detroit, MI | Safety Zone | 07/11/2002
09-02-062 | Lake Michigan, Michigan City, IN | Safety Zone | 07/14/2002
09-02-064 | Lake Michigan, Ferrysburg, MI | Safety Zone | 07/20/2002
09-02-066 | Lake Michigan, Michigan City, MI | Safety Zone | 07/20/2002
09-02-067 | Lake Michigan, St. Joseph, MI | Safety Zone | 07/20/2002
09-02-069 | Lake Michigan, Chicago, IL | Safety Zone | 07/20/2002
09-02-070 | Lake Michigan, Chicago, IL | Safety Zone | 07/22/2002
09-02-071 | Grand River, Grand Haven, MI | Safety Zone | 07/27/2002
09-02-072 | Kalamazoo Lake, Saugatuck, MI | Safety Zone | 07/02/2002
09-02-073 | Lake Michigan, Chicago, IL | Safety Zone | 07/27/2002
09-02-074 | Grand River, Grand Haven, MI | Safety Zone | 07/30/2002
09-02-075 | Hammond Marina, Hammond, IN | Safety Zone | 08/03/2002
09-02-502 | Buffalo River, Buffalo, NY | Safety Zone | 08/01/2002
09-02-507 | Lake Erie, Buffalo, NY | Safety Zone | 08/08/2002
09-02-514 | Kalamazoo Lake, Saugatuck, MI | Safety Zone | 08/31/2002
09-02-516 | Detroit Ambassador Bridge | Security Zone | 09/09/2002
09-02-517 | Detroit Renaissance Waterfront Area | Security Zone | 09/09/2002
09-02-518 | Illinois River, Morris, IL | Safety Zone | 09/28/2002
13-02-013 | Puget Sound, Washington | Security Zone | 08/12/2002
13-02-014 | Portland International Airport | Security Zone | 08/22/2002

Regulations Not on Previous 1st and 2nd Quarterly Report
District/COTP | Location | Type | Effective date
District regulation for 1st quarter
05-02-005 | Hampton Roads James River, VA | Safety zone | 02/20/02
COTP regulations for 2nd quarter
Guam 02-007 | COCOS Swim, COCOS Lagoon Guam | Safety zone | 05/26/02
Guam 02-013 | Commonwealth Port Authority, Saipan | Security zone | 05/06/02
Guam 02-014 | Commonwealth Port Authority, Saipan | Security zone | 05/08/02
Guam 02-015 | Port Authority of Guam | Security zone | 05/07/02
Guam 02-016 | Port Authority of Guam | Security zone | 05/07/02
Guam 02-017 | APRA Harbor, (Hotel Wharf) Guam | Security zone | 05/28/02
Jacksonville 02-076 | Indian River, New Smyrna Beach, FL | Safety zone | 06/29/02
Memphis 02-008 | LWR Mississippi River, M. 0 TO 3 | Safety zone | 06/08/02
Mobile 02-007 | Bayou Casotte, Mississippi | Safety zone | 04/14/02
Mobile 02-008 | Highway 90 Bridge, Pascagoula River, MS | Safety zone | 04/26/02
Mobile 02-009 | Bayou Casotte, Mississippi | Safety zone | 04/22/02
New Orleans 02-018 | Almonaster Bridge, New Orleans, LA | Safety Zone | 06/25/02
New Orleans 02-019 | Mississippi Rive Gulf Outlet Channel | Safety Zone | 06/24/02
Tampa 02-064 | Tampa Bay, Florida | Security zone | 06/27/02

[FR Doc. 02-30617 Filed 12-2-02; 8:45 am]

BILLING CODE 4910-15-M